OFFICE OF THE UNITED STATES TRADE REPRESENTATIVE

Advance Notice of Potential Expansion of Coverage of WTO Government Procurement Agreement

AGENCY: Office of the United States Trade Representative.

ACTION: Advance Notice of Potential Expansion of Coverage of WTO Government Procurement Agreement.

FOR FURTHER INFORMATION CONTACT: Jean Heilman Grier, Senior Procurement Negotiator, Office of the United States Trade Representative, (202) 395-9476.

Background

Currently, there are 28 Parties to the WTO Government Procurement Agreement (GPA). They are: Austria, Belgium, Canada, Denmark, European Communities, Finland, France, Germany, Greece, Hong Kong China, Iceland, Ireland, Israel, Italy, Japan, Korea, Liechtenstein, Luxembourg, Netherlands, Netherlands with respect to Aruba, Norway, Portugal, Singapore, Spain, Sweden, Switzerland, United Kingdom, and the United States. Suppliers from each of those countries are able to participate, on a reciprocal basis, in the government procurement of the other countries, subject to the terms and conditions set out in the GPA. The terms include a list of the entities from each country that are subject to GPA rules.

On May 1, 2004, 10 countries will join the European Communities (EC). They are: the Czech Republic, Republic of Estonia, Republic of Cyprus, Republic of Latvia, Republic of Lithuania, Republic of Hungary, Republic of Malta, Republic of Poland, Republic of Slovenia and Slovak Republic (“new EC Member States”). The EC has notified the other GPA Parties of its intention that the GPA will be binding on the new EC Member States as of May 1, 2004. The EC is consulting with the other GPA Parties with regard to the lists of the entities of the new EC Member States that would be subject to the GPA rules.

Future Action

When the WTO Committee approves the application of the GPA to the 10 new EC Member States, U.S. suppliers will be able to participate in the government procurement of those countries. Similarly, based upon a determination that the U.S. Trade Representative will make under the Trade Agreements Act of 1979, as amended, suppliers from the new EC Member States will be eligible to participate in U.S. government procurement under the same terms and conditions as suppliers from the countries that are currently covered by the GPA. That determination will be published in the Federal Register prior to May 1, 2004.

Carmen Suro-Bredie,
Chairman, Trade Policy Staff Committee.

[FR Doc. 04-7637 Filed 4-2-04; 8:45 am]

BILLING CODE 3190-W3-P